DEPARTMENT OF DEFENSE

Office of the Secretary

[Transmittal No. 20-85]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 20-85 with attached Policy Justification and Sensitivity of Technology.

Dated: January 31, 2023.
Aaron T. Siegel,
Alternate OSD Federal Register Liaison Officer, Department of Defense.

BILLING CODE 5001-06-P

BILLING CODE 5001-06-C

Transmittal No. 20-85

Notice of Proposed Issuance of Letter of Offer Pursuant to Section 36(b)(1) of the Arms Export Control Act, as Amended

(i) Prospective Purchaser: Government of Kuwait.

(ii) Total Estimated Value:

Major Defense Equipment * | $ 0 million
Other | $445 million
TOTAL | $445 million

(iii) Description and Quantity or Quantities of Articles or Services under Consideration for Purchase: The Government of Kuwait has requested to buy five hundred seventeen (517) total Heavy Tactical Vehicles consisting of Heavy Expanded Mobility Tactical Trucks (HEMTT) and Heavy Equipment Transporters (HET). These items include:

Major Defense Equipment (MDE):

None.

Non-MDE:

Thirty-one (31) HEMTT Wrecker Trucks (M984A4 ten-ton with crane and winch); one hundred (100) HEMTT Fuel Tanker Trucks (M978A4, ten-ton, 2,500 gallon); one hundred eighty-eight (188) Guided Missile Transporter Trucks (M985A4, ten-ton with winch); fifty (50) Heavy Equipment Transporter (HET) Trucks (M1070A1); fifty (50) 635NL Commercial Trailers for use with HET prime movers; forty-nine (49) Palletized Load System (PLS) Trailers (M1076A0); PLS Flat Rack (M1077 with sides); elements of logistical, contract, and other support services including spare parts; special tools and test equipment; tool sets; standard technical manuals; OCONUS operator and maintainer new equipment training (NET); Contractor Logistics Support (CLS) including Field Service Representatives (FSRs); de-processing services; construction of a heavy tactical vehicle maintenance facility; U.S. Government-furnished program management; and other related elements of logistical and program support.

(iv) Military Department: Army (KU-B-UYB).

(v) Prior Related Cases, if any: None.

(vi) Sales Commission, Fee, etc., Paid, Offered, or Agreed to be Paid: None

(vii) Sensitivity of Technology Contained in the Defense Article or Defense Services Proposed to be Sold: See Attached Annex

(viii) Date Report Delivered to Congress: July 1, 2021.

* As defined in Section 47(6) of the Arms Export Control Act.

Policy Justification

Kuwait—Heavy Tactical Vehicles

The Government of Kuwait has requested to buy five hundred seventeen (517) total Heavy Tactical Vehicles consisting of Heavy Expanded Mobility Tactical Trucks (HEMTT) and Heavy Equipment Transporters (HET). These items include: thirty-one (31) HEMTT Wrecker Trucks (M984A4 ten-ton with crane and winch); one hundred (100) HEMTT Fuel Tanker Trucks (M978A4, ten-ton, 2,500 gallon); one hundred eighty-eight (188) Guided Missile Transporter Trucks (M985A4, ten-ton with winch); fifty (50) Heavy Equipment Transporter (HET) Trucks (M1070A1); fifty (50) 635NL Commercial Trailers for use with HET prime movers; forty-nine (49) Palletized Load System (PLS) Trailers (M1076A0); PLS Flat Rack (M1077 with sides); elements of logistical, contract, and other support services including spare parts, special tools and test equipment; tool sets; standard technical manuals; OCONUS operator and maintainer new equipment training (NET); Contractor Logistics Support (CLS) including Field Service Representatives (FSRs); de-processing services; construction of a heavy tactical vehicle maintenance facility; U.S. Government-furnished program management; and other related elements of logistical and program support. The estimated total case value is $445 million.

This proposed sale will support the foreign policy and national security of the United States by helping to improve the security of a Major Non-NATO ally that is an important force for political stability and economic progress in the Middle East.

This proposed sale will improve Kuwait's capability to meet current and future threats by providing tactical logistics, sustainment, and transportation support to the country's Land Force Support Command. HEMTT Wreckers provide the capability to recover disabled wheeled vehicles. The other HEMTTs include Fuel Tankers and Guided Missile Transporters to perform resupply missions. The HEMTT and Palletized Load System trailers transport bulk supplies to include fuel, ammunition, spare parts, and rations. Kuwait will use these heavy vehicles to transport and support heavy equipment, including their legacy M1A2 tanks and their new M1A2K main battle tank slated for delivery in 2021. Kuwait will have no difficulty absorbing this equipment and the associated services into its armed forces.

The proposed sale of this equipment and support will not alter the basic military balance in the region.

The principal contractor will be Oshkosh Defense, LLC, Oshkosh, WI, for HEMTTs, HETs, PLS trailers, and support. The sub-contractor for commercial 635NL trailers will be Fontaine Trailers, Springville, AL. The sub-contractor for trailer flat racks will be Etnyre, Oregon, IL. There are no known offset agreements proposed in connection with this potential sale.

Implementation of this proposed sale will require the assignment of ten to fifteen (10-15) embedded U.S. contractor representatives to Kuwait for duration of a five (5) year program to provide training, field service representatives, fleet support, program management, and facility construction oversight.

There will be no adverse impact on U.S. defense readiness as a result of this proposed sale.

Transmittal No. 20-85

Notice of Proposed Issuance of Letter of Offer Pursuant to Section 36(b)(1) of the Arms Export Control Act

Annex

Item No. vii

(vii) Sensitivity of Technology:

1. Heavy Tactical Vehicles (HTV) are used to provide tactical sustainment, logistics, transportation, and combat support for land forces in the field. The M984A4 Wrecker Heavy Expanded Mobility Tactical Truck (HEMTT) (SME) is used to recover disabled vehicles and pull various vehicles in use by land forces. Other variants of HEMTT and the associated trailers are used to transport bulk supplies of all classes, to include fuel, ammunition, spare parts, and rations. The M985A4 HEMTT is designed to carry and transport missiles. The 70-Ton Heavy Equipment Transporter (HET M1070A1 and commercial trailers) are used to transport and pull heavy equipment up to and including the heavy armored brigade M1A2 main battle tank.

2. This case will include wiring harnesses and mounting hardware for radio equipment, but the sale of radios are not included within the scope of this proposed sale.

3. The highest level of classification of defense articles, components, and services included in this sale is UNCLASSIFED.

4. If a technologically advanced adversary were to obtain knowledge of the specific hardware and software elements, the information could be used to develop countermeasures that might reduce weapon system effectiveness or be used in the development of a system with similar or advanced capabilities.

5. A determination has been made that the Government of Kuwait can provide substantially the same degree of protection for the sensitive technology being released as the U.S. Government. This sale is necessary in furtherance of the U.S. foreign policy and national security objectives outlined in the Policy Justification.

6. All defense articles and services listed in this transmittal have been authorized for release and export to the Government of Kuwait.

[FR Doc. 2023-02380 Filed 2-3-23; 8:45 am]

BILLING CODE 5001-06-P